DEPARTMENT OF STATE

[Public Notice: 11670]

International Seabed Authority

ACTION: Notice of public meeting

SUMMARY: The Department of State will hold a public meeting to prepare for the meeting of the International Seabed Authority (ISA) Council to be held at ISA Headquarters, Kingston, Jamaica, from March 21-April 1, 2022.

DATES: The public meeting will be held via WebEx on March 16, 2022, 3 p.m.-4 p.m. Eastern Standard Time

FOR FURTHER INFORMATION CONTACT: If you would like to participate in this meeting, please send your (1) name, (2) organization/affiliation, and (3) email address and phone number, to Greg O'Brien at OBrienGJ@state.gov.

SUPPLEMENTARY INFORMATION: The Department of State will hold a public meeting at 3 p.m. EST on Wednesday, March 16, 2022, to prepare for the first part of the twenty-seventh session of the ISA Council. This public meeting will be held by way of WebEx, with a capacity of up to 1000 members of the public to participate. To RSVP, participants should contact the meeting coordinator, Greg O'Brien, by email at OBrienGJ@state.gov for log on and dial-in information, and to request reasonable accommodation. Requests for reasonable accommodation received after March 11, 2022, will be considered but might not be possible to fulfill.

The ISA Council will convene the first part of its twenty-seventh session on March 21-April 1, 2022, at ISA Headquarters in Kingston, Jamaica. The agenda for this session includes the Draft regulations on exploitation of mineral resources in the Area. Additional information on the ISA is available at www.isa.org.jm.

We are inviting interested stakeholders to this virtual public meeting to share views about this session of the ISA Council, in particular to provide information to assist the U.S. Government in developing its positions. We will provide a brief overview of the upcoming session and listen to the viewpoints of U.S. stakeholders. Comments are particularly welcome on the Facilitator's text on Part IV and VI of the Draft regulations concerning protection and preservation of the marine environment and plans for closing a seabed mining area; the Facilitator's text draws on textual proposals from ISA delegations and various proposals of the Legal and Technical Commission. The Facilitator's text is document ISBA/27/C/IWG/ENV/CRP.1 and can be accessed at: https://isa.org.jm/node/20859. The information obtained from this session will help the U.S. observer delegation prepare for participation in the first part of the twenty-seventh session of the ISA Council.

Gregory J. O'Brien,
Acting Deputy Director, Office of Ocean and Polar Affairs, Department of State.

[FR Doc. 2022-04295 Filed 2-25-22; 8:45 am]

BILLING CODE 4710-09-P